DEPARTMENT OF JUSTICE

Parole Commission

Sunshine Act Meeting

Public Announcement

Pursuant To The Government In the Sunshine Act (Public Law 94-409) [5 U.S.C. Section 522b].

Agency Holding Meeting: Department of Justice, United States Parole Commission.

Time and Date: 9:30 a.m., Tuesday, October 17, 2000.

Place: 5550 Friendship Blvd., Fourth Floor, Chevy Chase, MD 20815.

Status: Open.

Matters to be Considered: The following matters have been placed on the agenda for the open Parole Commission meeting:

1. Approval of minutes of previous Commission meeting.

2. Reports from the Chairman, Commissioners, Legal, Chief of Staff, Case Operations, and Administrative Sections.

3. Discussion of the proposed Interim Rules for District of Columbia Supervised Release.

Agency Contact: Sam Robertson, Case Operations, United States parole Commission, (301) 492-5962.

Dated: October 10, 2000.
Michael A. Stover,
General Counsel, U.S. Parole Commission.

[FR Doc. 00-26564 Filed 10-12-00; 11:04 am]

BILLING CODE 4410-31-M